CONSUMER PRODUCT SAFETY COMMISSION

[Docket No. CPSC-2013-0005]

Agency Information Collection Activities; Proposed Collection; Comment Request; Registration Card Effectiveness Survey

AGENCY: Consumer Product Safety Commission.

ACTION: Notice.

SUMMARY: The Consumer Product Safety Commission (CPSC or Commission) is announcing an opportunity for public comment on the proposed collection of certain information by the agency. Under the Paperwork Reduction Act of 1995 (PRA), Federal agencies are required to publish a notice in the Federal Register concerning each proposed collection of information and to allow 60 days for public comment in response to the notice. This notice solicits comments on the proposed collection of information for a report on the effectiveness of product registration cards in facilitating product recalls.

DATES: Submit written or electronic comments on the collection of information by April 5, 2013.

ADDRESSES: You may submit comments, identified by Docket No. CPSC-2013-0005, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing to the Office of the Secretary.

Docket: For access to the docket to read background documents or comments received, go to: http://www.regulations.gov.

FOR FURTHER INFORMATION CONTACT: Robert H. Squibb, Consumer Product Safety Commission, 4330 East West Highway, Bethesda, MD 20814; (301) 504-7815, or by email to: rsquibb@cpsc.gov.

SUPPLEMENTARY INFORMATION:

A. Background

Under the PRA (44 U.S.C. 3501-3520), Federal agencies must obtain approval from the Office of Management and Budget (OMB) for each collection of information they conduct or sponsor. “Collection of information” is defined in 44 U.S.C. 3502(3) and 5 CFR 1320.3(c), and includes agency requests or requirements that members of the public submit reports, keep records, or provide information to a third party. Section 3506(c)(2)(A) of the PRA (44 U.S.C. 3506(c)(2)(A)) requires federal agencies to provide a 60-day notice in the Federal Register concerning each proposed collection of information before submitting the proposed collection to OMB for approval. To comply with this requirement, the CPSC is publishing notice of the proposed collection of information set forth in this document.

Section 104(d) of Consumer Product Safety Improvement Act of 2008 (CPSIA) requires durable infant or toddler product manufacturers to provide product registration cards with each product sold. The Commission established such requirements for consumer registration of durable infant or toddler products under 16 CFR part 1130. Section 104(d)(4) also requires the Commission to prepare a report of the effectiveness of product registration cards in facilitating product recalls, which is to be presented to the appropriate congressional committees. 15 U.S.C. 2056a(d)(4). In order to prepare the report to Congress, CPSC staff will conduct a survey that will be sent out to infant or toddler product manufacturers who have conducted recalls since June 28, 2010, the date when the final rule concerning product registration cards went into effect. The survey seeks information about the recall, how many consumers registered their products, and how many consumers the firm attempted to contact about the recall. A copy of the draft survey may be viewed on: http://www.regulations.gov under Docket No. CPSC-2013-0005, Supporting and Related Material. The report will aggregate the information received from the manufacturers to assess the effectiveness of product registration cards in facilitating product recalls.

The average estimated time required for each manufacturer to complete the survey is 1 hour. The survey will be distributed to a maximum of 50 manufacturers, creating a maximum estimated burden across manufacturers of 50 hours. CPSC staff estimates that the hourly compensation for the time required to complete the survey is $27.55 (U.S. Bureau of Labor Statistics, “Employer Costs for Employee Compensation,” March 2012, Table 9, total compensation for all sales and office workers in goods-producing private industries: http://www.bls.gov/ncs/). Therefore, the estimated total combined annual cost for all surveyed manufacturers associated with the proposed requirements is $1,377.50 ($27.55 per hour × 50 hours = $1,377.50).

The estimated cost of the information collection to the Federal government is approximately $2,068, which includes 25 CPSC staff hours to examine and evaluate the information. This is based on a GS-14 level salaried employee. The average hourly wage rate for a mid-level salaried GS-14 employee in the Washington, DC metropolitan area (effective as of January 2012) is $57.33 (GS-14, step 5). Based on wages that represent 69.3 percent of total compensation with an additional 30.7 percent for benefits, the average hourly compensation for a mid-level salaried GS-14 employee would be approximately $82.72. (U.S. Bureau of Labor Statistics, “Employer Costs for Employee Compensation,” June 2012, Table 1, percentage of wages and salaries for all civilian management, professional, and related employees: http://www.bls.gov/ncs/). Assuming that approximately 25 hours will be required, this results in an estimated annual cost of $2,068 to the federal government.

B. Requests for Comments

The Commission invites comments on the proposed collection of information including:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic, or other technological collection techniques, or other forms of information technology.

Dated: January 30, 2013.
Todd A. Stevenson,
Secretary, Consumer Product Safety Commission.

[FR Doc. 2013-02350 Filed 2-1-13; 8:45 am]

BILLING CODE 6355-01-P